DEPARTMENT OF THE INTERIOR

Bureau of Land Management

[LLNMA00000.L12200000.AL0000 17X LXSSG0860000]

Notice of Public Meeting for the Albuquerque District Resource Advisory Council

AGENCY: Bureau of Land Management, Interior.

ACTION: Notice of meeting.

SUMMARY: In accordance with the Federal Land Policy and Management Act of 1976 and the Federal Advisory Committee Act of 1972, the U.S. Department of the Interior, Bureau of Land Management (BLM) Albuquerque District Resource Advisory Council (RAC) will meet as indicated below.

DATES: The Albuquerque District RAC will hold a public meeting on Monday, May 1, 2017. The meeting will begin at 9:30 a.m. MT and end at 4:00 p.m. MT.

ADDRESSES: The meeting will be held at the BLM Socorro Field Office, 901 South Old Highway 85, Socorro, NM 87801.

FOR FURTHER INFORMATION CONTACT: Jack River, Forester, BLM Albuquerque District Office, 100 Sun Avenue NE., Suite 330, Albuquerque, NM 87109, (505) 761-8755 or jriver@blm.gov. Persons who use a telecommunications device for the deaf may call the Federal Relay Service at 1(800) 877-8339 to contact the above individual during normal business hours. The Service is available 24 hours a day, seven days a week, to leave a message or question with the above individual. You will receive a reply during normal business hours.

SUPPLEMENTARY INFORMATION: The Albuquerque District RAC consists of 10 members chartered and appointed by the Secretary of the Interior. Their diverse perspectives are represented in commodity, conservation, and general interests. They provide advice to BLM resource managers regarding management plans and proposed resource actions on public land in the BLM's Albuquerque District. This meeting is open to the public in its entirety. Information to be distributed to the Albuquerque District RAC is requested prior to the start of each meeting.

Agenda items for the meeting include: Introduction of new RAC members, an update on the Planning 2.0 rule, updates on resource management, the law enforcement program, and responsibilities in both the Rio Puerco and Socorro Field Offices. Any other matters that may reasonably come before the Albuquerque District RAC may also be addressed. A public comment period will be available from 11:00-11:30 a.m. during the meeting. Unless otherwise approved by the Albuquerque District RAC Chair, the public comment period will last no longer than 30 minutes. Depending on the number of individuals wishing to comment and time available, oral comments may be limited.

Before including your address, phone number, email address, or other personal identifying information in your comments, please be aware that your entire comment—including your personal identifying information—may be made publicly available at any time. While you can ask us in your comment to withhold your personal identifying information from public review, we cannot guarantee that we will be able to do so.

Melanie Barnes,
Deputy State Director, Lands and Resources.

[FR Doc. 2017-07112 Filed 4-7-17; 8:45 am]

BILLING CODE 4310-FB-P